NUCLEAR REGULATORY COMMISSION

10 CFR Part 50, Appendix I

[NRC-2014-0044]

RIN 3150-AJ38

Reactor Effluents

AGENCY: Nuclear Regulatory Commission.

ACTION: Advance notice of proposed rulemaking; extension of comment period.

SUMMARY: On May 4, 2015, the U.S. Nuclear Regulatory Commission (NRC) requested public comment on an advance notice of proposed rulemaking (ANPR) to obtain input for the development of a regulatory basis that would support potential amendments to those regulations concerning how NRC licensees demonstrate meeting the “as low as is reasonably achievable” standard with respect to effluents from nuclear power plants. The purpose of the potential amendments would be to more closely align these NRC regulations with the terminology and dose-related methodology published by the International Commission on Radiation Protection (ICRP), as contained in the ICRP Publication 103 (2007). The public comment period was originally scheduled to close on September 1, 2015. The NRC received a request to extend the public comment period on the ANPR and is approving a one-time, 30-day extension to provide additional time for members of the public and other stakeholders to develop and submit their comments.

DATES: The public comment period in the notice published on May 4, 2015 (80 FR 25237), is extended. Comments should be filed no later than October 1, 2015. Comments received after this date will be considered if it is practical to do so, but the Commission is able to ensure consideration only for comments received on or before this date.

ADDRESSES: You may submit comments by any of the following methods (unless this document describes a different method for submitting comments on a specific subject):

• Federal rulemaking Web site: Go to http://www.regulations.gov and search for Docket ID NRC-2014-0044. Address questions about NRC dockets to Carol Gallagher; telephone: 301-415-3463; email: Carol.Gallagher@nrc.gov. For technical questions contact the individuals listed in the FOR FURTHER INFORMATION CONTACT section of this document.

• Email comments to: Rulemaking.Comments@nrc.gov. If you do not receive an automatic email reply confirming receipt, then contact us at 301-415-1677.

• Fax comments to: Secretary, U.S. Nuclear Regulatory Commission at 301-415-1101.

• Mail comments to: Secretary, U.S. Nuclear Regulatory Commission, Washington, DC 20555-0001, ATTN: Rulemakings and Adjudications Staff.

• Hand deliver comments to: 11555 Rockville Pike, Rockville, Maryland 20852, between 7:30 a.m. and 4:15 p.m. (Eastern Time) Federal workdays; telephone: 301-415-1677.

• Comments that contain proprietary or sensitive information: Please contact the individuals listed in the FOR FURTHER INFORMATION CONTACT section of this document to determine the most appropriate method for submitting these comments.

For additional direction on obtaining information and submitting comments, see “Obtaining Information and Submitting Comments” in the SUPPLEMENTARY INFORMATION section of this document.

FOR FURTHER INFORMATION CONTACT: Carolyn Lauron, telephone: 301-415-2736, email: Carolyn.Lauron@nrc.gov; and Nishka Devaser, telephone: 301-415-5196, email: Nishka.Devaser@nrc.gov. Both are staff of the Office of New Reactors, U.S. Nuclear Regulatory Commission, Washington, DC 20555-0001.

SUPPLEMENTARY INFORMATION:

I. Obtaining Information and Submitting Comments

A. Obtaining Information

Please refer to Docket ID NRC-2014-0044 when contacting the NRC about the availability of information for this action. You may obtain publicly-available information related to this action by any of the following methods:

• Federal Rulemaking Web site: Go to http://www.regulations.gov and search for Docket ID NRC-2014-0044.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

B. Submitting Comments

Please include Docket ID NRC-2014-0044 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

On May 4, 2015, the NRC published an ANPR (80 FR 25237) for public comment to obtain input on the development of a regulatory basis. The regulatory basis would support potential amendments to those regulations in appendix I of part 50 of Title 10 of the Code of Federal Regulations (10 CFR), which concern how NRC licensees demonstrate meeting the “as low as is reasonably achievable” standard with respect to effluents from nuclear power plants. The purpose of the potential amendments would be to more closely align the 10 CFR part 50, appendix I, regulations with the terminology and dose-related methodology published in ICRP Publication 103 (2007).

The ANPR identified specific questions and issues with respect to a possible revision of the NRC's regulations at 10 CFR part 50, appendix I, and associated guidance. Comments from members of the public and other stakeholders, including responses to the specific questions, will be considered by the NRC staff when it develops the regulatory basis. The public comment period was originally scheduled to close on September 1, 2015. The NRC received a request (ADAMS Accession No. ML15217A373) to extend the public comment period on the ANPR and is approving a one-time, 30-day extension, until October 1, 2015, to provide additional time for members of the public and other stakeholders to develop and submit their comments.

Dated at Rockville, Maryland, this 18th day of August 2015.
For the Nuclear Regulatory Commission.
Michael E. Mayfield,
Acting Director, Office of New Reactors.

[FR Doc. 2015-21072 Filed 8-24-15; 8:45 am]

BILLING CODE 7590-01-P